DEPARTMENT OF TRANSPORTATION

Federal Aviation Administration

14 CFR Part 39

[Docket No. FAA-2019-0557; Product Identifier 2019-NE-17-AD; Amendment 39-19775; AD 2019-21-09]

RIN 2120-AA64

Airworthiness Directives; Aviointeriors S.p.A. Centaurus Passenger Seats

AGENCY: Federal Aviation Administration (FAA), DOT.

ACTION: Final rule.

SUMMARY: The FAA is adopting a new airworthiness directive (AD) for certain Aviointeriors S.p.A. (Aviointeriors) Centaurus passenger seats with a specific life vest pouch assembly installed. This AD was prompted by reports of life vest pouches that were installed incorrectly on certain seats. This AD requires inspection of the life vest pouch assembly and, depending on the results of the inspection, replacement of the life vest pouch assembly. The FAA is issuing this AD to address the unsafe condition on these products.

DATES: This AD is effective December 18, 2019.

The Director of the Federal Register approved the incorporation by reference of certain publications listed in this AD as of December 18, 2019.

ADDRESSES: For service information identified in this final rule, contact Aviointeriors S.p.A., Customer Support, Via Appia Km. 66,4; 04013 Latina, Italy; phone: +39 0773 6891; fax: +39 0773 631546; email: customer-support@aviointeriors.it; internet: http://www.aviointeriors.it. You may view this service information at the FAA, Engine and Propeller Standards Branch, 1200 District Avenue, Burlington, MA 01803. For information on the availability of this material at the FAA, call 781-238-7759. It is also available on the internet at https://www.regulations.gov by searching for and locating Docket No. FAA-2019-0557.

Examining the AD Docket

You may examine the AD docket on the internet at https://www.regulations.gov by searching for and locating Docket No. FAA-2019-0557; or in person at Docket Operations between 9 a.m. and 5 p.m., Monday through Friday, except Federal holidays. The AD docket contains this final rule, the mandatory continuing airworthiness information (MCAI), the regulatory evaluation, any comments received, and other information. The address for Docket Operations is U.S. Department of Transportation, Docket Operations, M-30, West Building Ground Floor, Room W12-140, 1200 New Jersey Avenue SE, Washington, DC 20590.

FOR FURTHER INFORMATION CONTACT: Dorie Resnik, Aerospace Engineer, Boston ACO Branch, FAA, 1200 District Avenue, Burlington, MA 01803; phone: 781-238-7693; fax: 781-238-7199; email: dorie.resnik@faa.gov.

SUPPLEMENTARY INFORMATION:

Discussion

The FAA issued a notice of proposed rulemaking (NPRM) to amend 14 CFR part 39 by adding an AD that would apply to certain Aviointeriors S.p.A. (Aviointeriors) Centaurus passenger seats with a specific life vest pouch assembly installed. The NPRM published in the Federal Register on August 15, 2019 (84 FR 41664). The NPRM was prompted by reports of life vest pouches that were installed incorrectly on certain seats. The NPRM proposed to require inspection of the life vest pouch assembly and, depending on the results of the inspection, replacement of the life vest pouch assembly. The FAA is issuing this AD to address the unsafe condition on these products.

The European Union Aviation Safety Agency (EASA), which is the Technical Agent for the Member States of the European Community, has issued EASA AD No. 2018-0264R1, dated April 4, 2019 (referred to after this as “the MCAI”), to address the unsafe condition on these products. The MCAI states:

Incorrect installation of the affected pouch was found on certain affected seats. Subsequent investigation determined that those pouches have been (re)installed in service. This condition, if not detected and corrected, could prevent extraction of the life vest from the pouch, leading to evacuation of the aeroplane without a life vest, possibly resulting in injury to passengers.

To address this potential unsafe condition, Aviointeriors issued the SB to provide inspection instructions and the modification SB to provide instructions to modify the affected seats. Aviointeriors also revised the Component Maintenance Manuals (CMM) to include updated instructions for installing an affected pouch.

For the reason described above, EASA issued AD 2018-0264, requiring inspection of the affected seats and, depending on findings, accomplishment of applicable corrective action(s).

Since that [EASA] AD was issued, it was determined that affected seats may have received an additional P/N related to the aircraft modification addressing the installation of the seats. This [EASA] AD is revised to clarify the Applicability by inserting Note 1 into Appendix 1 of this [EASA] AD.

You may obtain further information by examining the MCAI in the AD docket on the internet at https://www.regulations.gov by searching for and locating Docket No. FAA-2019-0557.

Comments

The FAA gave the public the opportunity to participate in developing this final rule. The FAA received no comments on the NPRM or on the determination of the cost to the public.

Conclusion

The FAA reviewed the relevant data and determined that air safety and the public interest require adopting this final rule as proposed.

Related Service Information Under 1 CFR Part 51

The FAA reviewed Aviointeriors Mandatory Service Bulletin (MSB) No. 16/18, Rev. 1, dated October 11, 2018, and Aviointeriors Optional Service Bulletin (OSB) No. 18/18, Rev. 2, dated March 11, 2019. The MSB describes procedures for inspection and horizontal installation of the life vest pouch assembly. The OSB describes procedures for an alternative (vertical) inspection and installation of the life vest pouch assembly. This service information is reasonably available because the interested parties have access to it through their normal course of business or by the means identified in the ADDRESSES section.

Costs of Compliance

The FAA estimates that this AD affects an unknown number of passenger seats installed on, but not limited to, Boeing 777-200 and 777-300 airplanes of U.S. registry.

The FAA estimates the following costs to comply with this AD:

Estimated Costs
Action | Labor cost | Parts cost | Cost per product
Inspect life vest pouch assembly | 0.2 work-hours × $85 per hour = $17 | $0 | $17
Replace life vest pouch assembly | 0.1 work-hours × $85 per hour = $8.50 | 172 | 180.50

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-21-09 Aviointeriors S.p.A.: Amendment 39-19775; Docket No. FAA-2019-0557; Product Identifier 2019-NE-17-AD.

(a) Effective Date

This AD is effective December 18, 2019.

(b) Affected ADs

None.

(c) Applicability

(1) This AD applies to Aviointeriors S.p.A. (Aviointeriors) Centaurus Economy Class 13E, 13H, and 13K passenger seats with a seat part number (P/N) listed in Figure 1 to paragraph (c)(1) of this AD, with life vest pouch, P/N 313907100004, installed.

BILLING CODE 4910-13-P

BILLING CODE 4910-13-C

(2) These appliances are installed on, but not limited to, Boeing 777-200 and 777-300 airplanes.

(d) Subject

Joint Aircraft System Component (JASC) Code 2561, Life Jacket.

(e) Unsafe Condition

This AD was prompted by reports of life vest pouches installed incorrectly on certain seats. The FAA is issuing this AD to prevent the life vest from failing to extract from the pouch during an emergency. The unsafe condition, if not addressed, could result in having to evacuate the airplane without a life vest, possibly resulting in injury or death to passengers.

(f) Compliance

Comply with this AD within the compliance times specified, unless already done.

(g) Required Actions

(1) Within three months or 600 flight hours after the effective date of this AD, whichever occurs first, inspect the affected seat life vest pouch assembly using Paragraph 2, Life Vest Inspection, of Aviointeriors Mandatory Service Bulletin (MSB) No. 16/18, Rev. 1, dated October 11, 2018, or Paragraph 2, Life Vest Pouches Inspection, Aviointeriors Optional SB (OSB) No. 18/18, Rev. 2, dated March 11, 2019.

(2) If, during the inspection required by paragraph (g)(1) of this AD, a life vest pouch velcro strip is found damaged or worn, before further flight, remove the life vest pouch from service and replace it with a part eligible for installation using Paragraphs 3 through 5, inclusive, of Aviointeriors MSB No. 16/18, Rev. 1, dated October 11, 2018, or Aviointeriors OSB No. 18/18, Rev. 2, dated March 11, 2019.

(3) If, during the inspection required by paragraph (g)(1) of this AD, a life vest pouch installation is not found acceptable, as defined in Paragraph 2 of Aviointeriors MSB No. 16/18, Rev. 1, dated October 11, 2018, or Aviointeriors OSB No. 18/18, Rev. 2, dated March 11, 2019, before further flight, remove the life vest pouch from service and replace it with a part eligible for installation using Paragraphs 3 through 5, inclusive, of Aviointeriors MSB No. 16/18, Rev. 1, dated October 11, 2018, or Aviointeriors OSB No. 18/18, Rev. 2, dated March 11, 2019.

(h) Installation Prohibition

After the effective date of this AD, do not install an Aviointeriors Centaurus Economy Class passenger seat with a P/N identified in paragraph (c) of this AD unless the affected seat life vest pouch assembly has been inspected in accordance with paragraph (g)(1) of this AD, and depending on the finding, replaced with a part eligible for installation.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the ECO Branch, send it to the attention of the person identified in paragraph (j)(1) of this AD.

(2) Before using any approved AMOC, notify your appropriate principal inspector, or lacking a principal inspector, the manager of the local flight standards district office/certificate holding district office.

(j) Related Information

(1) For more information about this AD, contact Dorie Resnik, Aerospace Engineer, Boston ACO Branch, FAA, 1200 District Avenue, Burlington, MA 01803; phone: 781-238-7693; fax: 781-238-7199; email: dorie.resnik@faa.gov.

(2) Refer to European Union Aviation Safety Agency (EASA) AD 2018-0264R1, dated April 4, 2019, for more information. You may examine the EASA AD in the AD docket on the internet at https://www.regulations.gov by searching for and locating it in Docket No. FAA-2019-0557.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Aviointeriors Mandatory Service Bulletin No. 16/18, Rev. 1, dated October 11, 2018, and

(ii) Aviointeriors Optional Service Bulletin No. 18/18, Rev. 2, dated March 11, 2019.

(3) For Aviointeriors service information identified in this AD, contact Aviointeriors S.p.A., Customer Support, Via Appia Km. 66,4; 04013 Latina, Italy; phone: +39 0773 6891; fax: +39 0773 631546; email: customer-support@aviointeriors.it; internet: http://www.aviointeriors.it.

(4) You may view this service information at FAA, Engine & Propeller Standards Branch, 1200 District Avenue, Burlington, MA 01803. For information on the availability of this material at the FAA, call 781-238-7759.

(5) You may view this service information that is incorporated by reference at the National Archives and Records Administration (NARA). For information on the availability of this material at NARA, email: fedreg.legal@nara.gov, or go to: https://www.archives.gov/federal-register/cfr/ibr-locations.html.

Issued in Burlington, Massachusetts, on October 24, 2019.
Karen M. Grant,
Acting Manager, Engine and Propeller Standards Branch, Aircraft Certification Service.

[FR Doc. 2019-24512 Filed 11-12-19; 8:45 am]

BILLING CODE 4910-13-P